DEPARTMENT OF DEFENSE

Office of the Secretary

DoD Medicare-Eligible Retiree Health Care Board of Actuaries; Notice of Federal Advisory Committee Meeting

AGENCY: DoD.

ACTION: Meeting notice.

SUMMARY: The Department of Defense is publishing this notice to announce a Federal Advisory Committee meeting of the DoD Medicare-Eligible Retiree Health Care Board of Actuaries. This meeting is open to the public.

DATES: Friday, August 8, 2014, from 10:00 a.m.to 12:00 p.m.

ADDRESSES: 4800 Mark Center Drive, Conference Room 18, Level B1, Alexandria, VA 22350.

FOR FURTHER INFORMATION CONTACT: For further information contact Mrs. Kathleen Ludwig at the Defense Human Resource Activity, DoD Office of the Actuary, 4800 Mark Center Drive, STE 06J25-01, Alexandria, VA 22350-4000. Phone: (571) 372-1993. Email: Kathleen.A.Ludwig.civ@mail.mil.

SUPPLEMENTARY INFORMATION: This meeting is being held under the provisions of the Federal Advisory Committee Act of 1972 (5 U.S.C., Appendix, as amended), the Government in the Sunshine Act of 1976 (5 U.S.C. 552b, as amended), and 41 CFR 102-3.150.

Purpose of the Meeting: The purpose of the meeting is to execute the provisions of 10 U.S.C. 1114 et. seq. The Board shall review DoD actuarial methods and assumptions to be used in the valuation of benefits under DoD retiree health care programs for Medicare-eligible beneficiaries.

Agenda

1. Meeting Objective

Approve actuarial assumptions and methods needed for calculating:

i. FY 2016 per capita full-time and part-time normal cost amounts

ii. September 30, 2013, unfunded liability (UFL)

iii. October 1, 2014, Treasury UFL amortization and normal cost payments

2. Trust Fund Update

3. Medicare-Eligible Retiree Health Care Fund Update

4. September 30, 2012 Actuarial Valuation Results

5. September 30, 2013 Actuarial Valuation Proposals

6. Decisions

Actuarial assumptions and methods needed for calculating:

a. FY 2016 per capita full-time and part-time normal cost amounts

b. September 30, 2013, unfunded liability (UFL)

c. October 1, 2014, Treasury UFL amortization and normal cost payments

Public's Accessibility to the Meeting: Pursuant to 5 U.S.C. 552b and 41 CFR 102-3.140 through 102-3.165 and the availability of space, this meeting is open to the public. Seating is on a first come basis. The Mark Center is an annex of the Pentagon. Those without a valid DoD Common Access Card must contact Kathleen Ludwig at 571-372-1993 no later than June 30, 2014. Failure to make the necessary arrangements will result in building access being denied. It is strongly recommended that attendees plan to arrive at the Mark Center at least 30 minutes prior to the start of the meeting.

Pursuant to 41 CFR 102-3.105(j) and 102-3.140, and section 10(a)(3) of the Federal Advisory Committee Act of 1972, the public or interested organizations may submit written statements to the DoD Medicare-Eligible Retiree Health Care Board of Actuaries about its mission and functions. Written statements may be submitted at any time or in response to the stated agenda of a planned meeting of the Board.

All written statements shall be submitted to the Designated Federal Officer (DFO) for the Board and this individual will ensure that the written statements are provided to the membership for their consideration. The DFO is Inger Pettygrove, Inger.M.Pettygrove.civ@mail.mil; DHRA Office of the Actuary, 4800 Mark Center Drive, Suite 06J25-01, Alexandria, VA 22350-4000; (571) 372-1998.

Statements being submitted in response to the agenda mentioned in this notice must be received by the DFO at the address listed above at least five calendar days prior to the meeting which is the subject of this notice. Written statements received after this date may not be provided to or considered by the Board until its next meeting.

The DFO will review all timely submissions with the Board and ensure they are provided to all members of the Board before the meeting that is the subject of this notice.

Committee's Point of Contact: Persons desiring to attend the DoD Medicare-Eligible Retiree Health Care Board of Actuaries meeting must notify Kathleen Ludwig at (571) 372-1993, or Kathleen.A.Ludwig.civ@mail.mil, by June 30, 2014. For further information contact Mrs. Ludwig at the Defense Human Resource Activity, DoD Office of the Actuary, 4800 Mark Center Drive, STE 06J25-01, Alexandria, VA 22350-4000.

Dated: February 10, 2014.
Aaron Siegel,
Alternate OSD Federal Register Liaison Officer, Department of Defense.

[FR Doc. 2014-03156 Filed 2-12-14; 8:45 am]

BILLING CODE 5001-06-P